DEPARTMENT OF TRANSPORTATION

Federal Highway Administration

Interoperability Requirements, Standards, or Performance Specifications for Automated Toll Collection Systems; Public Meeting

AGENCY: Federal Highway Administration (FHWA); DOT.

ACTION: Notice of public meeting.

SUMMARY: On September 20, 2007, the FHWA published its Notice of Proposed Rulemaking (NPRM) in the Federal Register at 72 FR 53736. This publication announced a public meeting on October 11, 2007, to discuss the NPRM. In response to comments received, the FHWA has decided to hold an additional public meeting on October 18, 2007, at 1:30 p.m. All interested persons are invited to offer views at these two public meetings.

DATES: The first public meeting will be held on October 11, 2007, beginning at 1:30 p.m. The second public meeting will be held on October 18, 2007, beginning at 1:30 p.m.

ADDRESSES: Both public meetings will be held at the U.S. Department of Transportation headquarters conference center, 1200 New Jersey Avenue, SE., Washington, DC 20590.

FOR FURTHER INFORMATION CONTACT: For technical questions or information about this notice of proposed rulemaking, contact Mr. Robert Rupert, FHWA Office of Operations, (202) 366-2194. For legal questions, please contact Mr. Michael Harkins, Attorney Advisor, FHWA Office of the Chief Counsel, (202) 366-4928, Federal Highway Administration, 1200 New Jersey Avenue, SE., Washington, DC 20590. Office hours for the FHWA are from 7:45 a.m. to 4:15 p.m., e.t., Monday through Friday, except Federal holidays.

SUPPLEMENTARY INFORMATION:

Background

On September 20, 2007, the FHWA published its NPRM in the Federal Register at 72 FR 53736. As required under section 1604(b)(6) of the Safe, Accountable, Flexible, Efficient Transportation Equity Act: A Legacy for Users (SAFETEA-LU), the proposed rule specifies the interoperability requirements for automated toll collection systems for the facilities that are tolled under any of the tolling programs contained in section 1604 of SAFETEA-LU. Specifically, this NPRM proposes to require facilities operating with authority under section 1604 of SAFETEA-LU to use electronic toll collection systems and for these systems to address their interoperability with other toll facilities. Although a nationwide interoperability standard has not yet been established, the proposed rule seeks to accelerate progress toward achieving nationwide interoperability by requiring these facilities to upgrade their electronic toll collection systems to the national standards whenever adopted.

The September 20, 2007, notice announced a public meeting on October 11, 2007, to discuss the NPRM. In response to comments received, the FHWA has decided to hold an additional public meeting on October 18, 2007.

Public Meetings

The public meetings will be held at the address listed above. The FHWA invites participation in these meetings by all those interested in the above noted NPRM. Written submissions are welcome, although not required for participation. The FHWA expects each meeting to last approximately three hours. No pre-registration is required for participation.

Issued on: September 26, 2007.
Anthony Furst,
Acting Associate Administrator for Operations.

[FR Doc. E7-19409 Filed 10-1-07; 8:45 am]

BILLING CODE 4910-22-P